DEPARTMENT OF STATE

[Public Notice: 10608]

E.O. 13224 Designation of Al-Mujahidin Brigades, aka Khatib Al-Mujahidin, aka Holy Warriors Battalion, aka Al Mujahideen Brigades, aka Ansar al-Mujahidin Movemement as a Specially Designated Global Terrorist

Acting under the authority of and in accordance with section 1(b) of Executive Order 13224 of September 23, 2001, as amended by Executive Order 13268 of July 2, 2002, and Executive Order 13284 of January 23, 2003, I hereby determine that the person known as Al-Mujahidin Brigades, also known as Khatib Al-Mujahidin, also known as Holy Warriors Battalion, also known as Al Mujahideen Brigades, also known as Ansar al-Mujahidin Movemement, committed, or poses a significant risk of committing, acts of terrorism that threaten the security of U.S. nationals or the national security, foreign policy, or economy of the United States.

Consistent with the determination in section 10 of Executive Order 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Dated: September 12, 2018.
Michael R. Pompeo,
Secretary of State.

[FR Doc. 2018-24841 Filed 11-13-18; 8:45 am]

BILLING CODE 4710-AD-P